GENERAL SERVICES ADMINISTRATION

[OMB Control No. 3090-XXXX]

General Services Administration; Office of Governmentwide Policy; Information Collection Standard Form (SF-XXXX), Real Property Status Report

AGENCY: Office of Governmentwide Policy, General Services Administration (GSA).

ACTION: Interim Notice; request for comments regarding a new information collection.

SUMMARY: Under the provisions of the Paperwork Reduction Act of 1995 (44 U.S.C. Chapter 35), the GSA Office of Governmentwide Policy will submit to the Office of Management and Budget (OMB) a request to review and approve a new information collection requirement concerning reporting real property status. The GSA, on behalf of the Grants Policy Committee, proposes to issue a new standard form, the Real Property Status Report (RPSR) (SF-XXXX).

This interim notice is being issued to address comments received as a result of the notice published in the Federal Register at 72 FR 64646 on November 16, 2007, and to present changes made to the report as a result of those comments. We anticipate this being the interim notice before the form and instructions are finalized.

The general public and Federal agencies are invited to comment on the proposed revised report. To view the report and a full list of comments received along with work group responses, go to OMB's Web page at http://www.OMB.gov and click on the “Grants Management,” then “Forms,” then Proposed Government-Wide Standard Grants Reporting Forms links.

DATES: Comment Due Date: January 12, 2009.

FOR FURTHER INFORMATION CONTACT: Michael Nelson, Chair, Post-Award Workgroup; telephone 301-713-0833 ext. 199; fax 301-713-0806; e-mail Michael.Nelson@noaa.gov; mailing address 1305 East-West Highway, Room 7142, Silver Spring, MD 20910.

ADDRESSES: Submit comments regarding this burden estimate or any other aspect of this collection of information, including suggestions for reducing this burden, to the Regulatory Secretariat (VPR), General Services Administration, Room 4041, 1800 F Street, NW., Washington, DC 20405.

SUPPLEMENTARY INFORMATION:

A. Purpose

The report will be used to collect information related to real property when required by a Federal financial assistance award. The SF-XXXX includes a cover page, attachment A, “General Reporting”, attachment B, “Request To Acquire, Improve or Furnish” and attachment C, “Disposition Request.” The purpose of this new report is to assist recipients of grants and cooperative agreements when they are required to provide a Federal agency with information related to real property to which the Federal government holds an interest as a result of the real property being acquired, improved or furnished under a Federal financial assistance award, and for real property that was donated to a Federal project in the form of a required match or cost sharing donation. The report establishes a standard format for reporting real property status under financial assistance awards. It does establish an annual reporting date of September 30 to be used if an award does not specify an annual reporting date, unless Federal interest in the real property extends 15 years or longer. To create uniformity of collection and support future electronic submission of information, the standard reporting form will replace any agency unique forms currently in use.

Background

The GSA, on behalf of the Federal Grants Streamlining Initiative, announced in the Federal Register on November 16, 2007 (72 FR 64646), its intent to issue a new standard report, the Real Property Status Report (SF-XXXX).

Public Law 106-107 required the OMB to direct, coordinate, and assist Executive Branch departments and agencies in establishing an interagency process to streamline and simplify Federal financial assistance procedures for non-Federal entities. The law also required executive agencies to develop, submit to the Congress, and implement a plan to achieve streamlined and simplified procedures.

Twenty-six Executive Branch agencies jointly submitted a plan to the Congress in May 2001, as the Act required. The plan described the interagency process through which the agencies would review current policies and practices, and seek to streamline and simplify them. The process involved interagency work groups under the auspices of the Grants Management Committee of the Chief Financial Officers Council. The plan also identified substantive areas in which the interagency work groups had begun their review.

One of the substantive areas that the agencies identified in the plan was a need to streamline and simplify Federal grant reporting requirements and procedures and associated business processes to reduce unnecessary burdens on recipients and to improve the timeliness, completeness and quality of the information collected.

Under the standards for management and disposition of federally owned property, and real property acquired under assistance awards (real property status) in 2 CFR part 215, the “Uniform Administrative Requirements for Grants and Agreements With Institutions of Higher Education, Hospitals, and Other Non-Profit Organizations”, and the “Uniform Administrative Requirements for Grants and Agreements With State and Local Governments”, codified by Federal agencies at 53 FR 8048 (March 11, 1988), recipients may be required to provide Federal agencies with information concerning property in their custody annually, at award closeout or when the property is no longer needed.

During the public consultation process mandated by Pub. L. 106-107, recipients suggested the need for clarification of these requirements and the establishment of a standard report to help them submit appropriate property information when required. The Real Property Status Report is to be used in connection with the requirements listed in the table below and Federal awarding agency guidelines:

For . . . | A recipient must . . . | When . . .
Federally owned property | Submit an inventory listing | Annually, with information accurate as of 30 September, unless the award specifies a different date.
| Report the property to the Federal awarding agency | The property is no longer needed. Upon completion of the award or at the point Federal interest in the property ceases.
| Notify the Federal awarding agency | Immediately upon finding property damaged, or significantly altered.
| Request authority to be furnished real property | The recipient is authorized, via the assistance award, to request to be furnished real property for the purposes of the project or program.
| Request disposition instructions | The property is no longer needed. Upon completion of the award or at the point Federal interest in the property ceases.
Real property improved, donated or acquired in whole or in part under an assistance award | Request authority to acquire or improve real property | The recipient is authorized, via the assistance award, to request authorization from the awarding agency, during the post award phase, to acquire or improve real property for the purposes of the project or program.
| Request disposition instructions | The recipient no longer needs the property for any purpose.
| Sell the property and reimburse the Federal awarding agency for the Federal share | The recipient is directed to sell the property under guidelines provided by the Federal awarding agency.
| Transfer title to the property to the Federal Government or to an eligible third party | The recipient is directed to transfer title by the Federal awarding agency or its successor.
| Compensate the original Federal awarding agency or its successor | The recipient wants to retain title without further obligation to the Federal Government.
| Obtain the approval of the Federal awarding agency | Before making capital expenditures for improvements to property that materially increase its value or useful life.
| Obtain the approval of the Federal awarding agency | The recipient wants to use the real property in other Federally-sponsored projects or programs that have purposes consistent with those authorized for support by the Federal awarding agency when the recipient determines that the property is no longer needed for the purposes of the original project.
| Request release from the obligation to report on real property | The Federal interest in the property expires, or the real property has been disposed of in accordance with agency instructions.

Discussion of Comments

Sixty-eight (68) comments were received in response to the November 16, 2007, Federal Register notice (72 FR 64646) regarding the RPSR. The majority of comments came from Federal agencies. Following the close of the comment period, an interagency team met to review the comments and make appropriate upgrades to the draft report. A summary of the comments and the work group responses are below:

Comment 1: The team received 9 comments regarding Attachment B, which was designed to capture recipient disposition requests and requests for acquisition, improvement or furnishing of real property. Agencies that do not allow requests for acquisition, improvement or furnishing in the post-award context expressed concern that the attachment may mislead recipients into believing it would be allowable to make such requests.

Response: There was confusion about the purpose of the original Attachment B because it contains both post-award requests and disposition instructions. The team revised the report to separate requests from disposition and created a new Attachment C. If a recipient is not allowed to make post-award requests to acquire, improve or to be furnished real property, Attachment B will be removed from the recipient reporting requirements at the time of award.

Comment 2: The team received 1 comment expressing concern that “Conservation Easement” was listed as an Ownership type.

Response: As it is not an Ownership type, “Conservation Easement” has been removed as an Ownership type but can be reported in the “Other” category.

Comment 3: The team received 1 comment expressing concern that the report did not request information regarding a property's requirements associated with the National Historic Preservation Act.

Response: The report has been updated to include a data request for any National Historic Preservation Act requirements related to the property.

Comment 4: The team received 3 comments regarding requests for additional program specific data blocks, such as the inclusion of detailed floor plans.

Response: The RPSR is designed for government-wide use. Agencies have the latitude to modify the form, with the OMB's approval, to require the reporting of additional information based on program need.

Comment 5: The team received 3 comments regarding the use of current agency data collection systems and the development of a new electronic solution for real property reporting.

Response: OMB has not made a decision regarding the development of a system for collecting real property report information. The data elements used to develop the report were taken from reporting instruments used throughout the Federal government. Agencies will be required to collect the data elements and may use existing agency systems or formats to do so, as long as those collections are consistent with the report. The intent is to issue the report in paper format with the expectation that it will be implemented electronically in the future.

Comment 6: The team received 1 comment on the proposed reporting frequency.

Response: Agencies will have the option to require reporting on a less than once a year basis not to exceed 5 years, (e.g., on a 2, 3 or up to a 5 year basis) based on program needs. Agencies cannot require reporting more frequently than on a quarterly basis.

Comment 7: The team received 3 comments regarding the implementation of the report. Agencies were concerned about whether the form would be used to report on past and current awards.

Response: The team plans to require the use of the report for all awards issued after the report is released as final. Agencies can individually determine whether or not to use the report retroactively.

Comment 8: The team received 8 comments from agencies questioning the need to collect certain data elements or noting that many agencies already collect information appearing on the report.

Response: OMB is requiring the submission of all information appearing on the report so that the Federal Government, as a whole, can better track the vast amounts of real property in which the government holds an interest. Currently information on real property in which the Federal Government holds an interest is not being captured in a standardized manner; and in some cases, is not being captured at all.

The RPSR data elements will be the standard elements for reporting on real property once implemented by 2 CFR part 45. The data elements used to develop the report were taken from reporting instruments being used throughout the Federal Government. Agencies will be required to collect the data elements and may use existing agency systems or formats to do so, as long as those collections are consistent with the report.

Comment 9: The team received 1 comment concerning potential duplicative burden on recipients who receive funding from multiple agencies.

Response: Requesting reports on each funding stream is not duplicative because each agency needs to be able to establish and identify its Federal interest.

Comment 10: The team received 5 questions and/or comments concerning who the report applies to, when it is applicable, and the regulatory requirement associated with it.

Response: The requirement to use the report will apply to all Federal financial assistance programs for awards that establish a Federal interest on real property. Currently, there is no regulatory requirement for real property reporting. The related regulatory requirement is being developed by OMB and will be included in 2 CFR part 45.

Comment 11: The team received 2 comments from agencies and grantee organizations concerning whether legislative requirements will take precedence over RPSR reporting requirements.

Response: If there is a statutory or regulatory basis for the agency's requirements, then those requirements take precedence to the report.

Comment 12: The team received 1 comment questioning whether “Federal interest” refers to real property and improvements acquired with Federal funds, and whether such interest would continue to the end of any use restrictions.

Response: Yes, Federal interest in real property is obtained by virtue of the use of Federal funding to acquire or improve the property and, for real property donated as required cost sharing or matching, unless excluded by statute or award terms. The related award instrument should specify the terms and duration of the Federal interest.

Comment 13: The team received 1 comment questioning the need for the Federal Government to impose a reporting requirement extending beyond the grant period on property donated to the Federal Government.

Response: The government acquires an interest in the total project, including any property recipients donate to the project as required cost sharing or matching. Through such donation, the government acquires a financial interest in the property, the value of which at any given time is the product of:

a. The Federal share of the project costs under the award; and

b. The current value of the property.

That interest remains until the government releases its interest in the property.

Comment 14: The team received 1 comment questioning whether “Tax Credits” are Federal or not.

Response: This is a legal question that individual agencies will need to determine.

Comment 15: The team received 1 comment questioning whether agencies will need to report on improvements to real property in which the Federal ownership is in question. For example: improvements to real property erected on Indian trust and allotted lands.

Response: This is a legal question that should be vetted by agency attorneys.

Comment 16: The team received 17 comments concerning the clarity of the instructions.

Response: Where necessary, the team revised the instruction language to clarify the type of data requested.

Comment 17: The team received 5 comments on the burden estimate for the report.

Response: The team reconsidered and revised the burden estimate.

Comment 18: The team received 5 general comments not requiring action or a response.

B. Annual Reporting Burden

This report will be used by Federal agencies to collect information related to real property when required by a Federal financial assistance award. Since this report will be used primarily for reporting related to Federal financial assistance awards, we are providing a burden estimate for one respondent.

Respondents: Assistance recipients.

Estimated Total Annual Burden Hours: 4 (per submission).

Estimated Cost: There is no expected cost to the respondents or to OMB.

Instrument | Number of respondents | Number of responses per respondent | Average burden hours per response | Total burden hours
Real Property Status Report SF-XXXX | 1 | 1 | 0.25 | 0.25
SF-XXXX—Real Property Status Report [Attachment A] | 1 | 1 | 1.50 | 1.50
SF-XXXX—Real Property Status Report [Attachment B] | 1 | 1 | 1.0 | 1.0
SF-XXXX—Real Property Status Report [Attachment C] | 1 | 1 | 1.25 | 1.25
Total |  |  |  | 4.0

Obtaining Copies of Proposals: Requesters may obtain a copy of the information collection documents from the General Services Administration, Regulatory Secretariat (VPR), 1800 F Street, NW., Room 4041, Washington, DC 20405, telephone (202) 501-4755, or by faxing your request to (202) 501-4067. Please cite the title, OMB Control No. 3090-XXXX, Real Property Status Report, in all correspondence.

Dated: October 17, 2008.
Casey Coleman,
Chief Information Officer.

[FR Doc. E8-26996 Filed 11-12-08; 8:45 am]

BILLING CODE 6820-RH-P